DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee), will hold a meeting via teleconference on Friday, June 1, 2012 from 1 p.m. to 3 p.m. Eastern Time. The primary purpose of this meeting is to finalize the Committee's draft annual report to the NIST Director. Any draft meeting materials will be posted on the NEHRP Web site at http://nehrp.gov/. Interested members of the public will be able to participate in the meeting from remote locations by calling into a central phone number.

DATES: The ACEHR will hold a meeting via teleconference on Friday, June 1, 2012, from 1 p.m. until 3 p.m. Eastern Time.

ADDRESSES: Questions regarding the meeting should be sent to National Earthquake Hazards Reduction Program Director, National Institute of Standards and Technology, 100 Bureau Drive Mail Stop 8604, Gaithersburg, Maryland 20899-8604. For instructions on how to participate in the meeting, please see the SUPPLEMENTARY INFORMATION section of this notice.

FOR FURTHER INFORMATION CONTACT: Dr. Jack Hayes, National Earthquake Hazards Reduction Program Director, National Institute of Standards and Technology, 100 Bureau Drive, Mail Stop 8604, Gaithersburg, Maryland 20899-8604. Dr. Hayes' email address is jack.hayes@nist.gov and his phone number is (301) 975-5640.

SUPPLEMENTARY INFORMATION: The Committee was established in accordance with the requirements of Section 103 of the NEHRP Reauthorization Act of 2004 (Pub. L. 108-360). The Committee is composed of 12 members appointed by the Director of NIST, who were selected for their technical expertise and experience, established records of distinguished professional service, and their knowledge of issues affecting the National Earthquake Hazards Reduction Program. In addition, the Chairperson of the U.S. Geological Survey (USGS) Scientific Earthquake Studies Advisory Committee (SESAC) serves in an ex-officio capacity on the Committee. The Committee assesses:

• Trends and developments in the science and engineering of earthquake hazards reduction;

• The effectiveness of NEHRP in performing its statutory activities (improved design and construction methods and practices; land use controls and redevelopment; prediction techniques and early-warning systems; coordinated emergency preparedness plans; and public education and involvement programs);

• Any need to revise NEHRP; and

• The management, coordination, implementation, and activities of NEHRP.

Background information on NEHRP and the Advisory Committee is available at http://nehrp.gov/.

Pursuant to the Federal Advisory Committee Act, 5 U.S.C. app., notice is hereby given that the ACEHR will hold a meeting via teleconference on Friday, June 1, 2012, from 1 p.m. until 3 p.m. Eastern Time. There will be no central meeting location. Interested members of the public will be able to participate in the meeting from remote locations by calling into a central phone number. The primary purpose of this meeting is to finalize the Committee's draft annual report to the NIST Director. Any draft meeting materials will be posted on the NEHRP Web site at http://nehrp.gov/.

Individuals and representatives of organizations who would like to offer comments and suggestions related to the Committee's affairs are invited to request detailed instructions by contacting Michelle Harman on how to dial in from a remote location to participate in the meeting. Michelle Harman's email address is michelle.harman@nist.gov, and her phone number is 301-975-5324. Approximately fifteen minutes will be reserved from 2:45 p.m.-3 p.m. Eastern Time for public comments; speaking times will be assigned on a first-come, first-serve basis. The amount of time per speaker will be determined by the number of requests received, but is likely to be about 3 minutes each. Questions from the public will not be considered during this period. Speakers who wish to expand upon their oral statements, those who had wished to speak but could not be accommodated, and those who were unable to participate are invited to submit written statements to the ACEHR, National Institute of Standards and Technology, 100 Bureau Drive MS 8604, Gaithersburg, Maryland 20899-8604, via fax at (301) 975-5433, or electronically by email to info@nehrp.gov.

All participants of the meeting are required to pre-register. Anyone wishing to participate must register by close of business Friday, May 25, 2012, in order to be included. Please submit your name, email address, and phone number to Michelle Harman. After registering, participants will be provided with detailed instructions on how to dial in from a remote location in order to participate. Michelle Harman's email address is michelle.harman@nist.gov, and her phone number is (301) 975-5324.

Dated: May 3, 2012.
David Robinson,
Associate Director for Management Resources.

[FR Doc. 2012-11237 Filed 5-9-12; 8:45 am]

BILLING CODE 3510-13-P